DEPARTMENT OF COMMERCE

National Oceanic and Atmospheric Administration

50 CFR Part 648

[Docket No. 010313064-1064-01; I.D. 103101B]

Fisheries of the Northeastern United States; Northeast Multispecies Fishery; Commercial Haddock Harvest

AGENCY: National Marine Fisheries Service (NMFS), National Oceanic and Atmospheric Administration (NOAA), Commerce.

ACTION: Removal of haddock daily trip limit.

SUMMARY: NMFS announces that the Administrator, Northeast Region, NMFS (Regional Administrator), has projected that less than 75 percent of the 6,252 mt haddock target total allowable catch (TAC) will be harvested for the 2001 fishing year under the present landing limit, so the daily landing limit is being suspended until March 1, 2002. Therefore, between November 6, 2001, and February 28, 2002, vessels fishing under a multispecies day-at-sea (DAS) may possess no more than 50,000 lb (22,680 kg) per trip, but are not restricted to a limit of haddock per DAS. Unless subsequent projections indicate some other measure is required to ensure that the haddock target TAC is harvested but not exceeded, the existing daily trip limit of 5,000 lb (2,268 kg) per DAS will go back into effect on March 1, 2002.

DATES: Effective November 6, 2001, through February 28, 2002.

FOR FURTHER INFORMATION CONTACT: Rick A. Pearson, Fishery Policy Analyst, 978-281-9279.

SUPPLEMENTARY INFORMATION: Regulations implementing the haddock trip limit in Framework Adjustment 33 (65 FR 21658, April 24, 2000) became effective May 1, 2000, and were maintained for the current fishing year. To ensure that haddock landings remain within the target TAC of 6,252 mt established for the 2001 fishing year (66 FR 15812, March 21, 2001), Framework 33 established an initial landing limit of 3,000 lb (1,360.8 kg) per DAS fished and 30,000 lb (13,608 kg) per trip maximum, followed by an increased landing limit of 5,000 lb (2,268 kg) per DAS and 50,000 lb (22,680 kg) per trip from October 1 through April 30. Framework 33 also provided a mechanism to adjust the haddock trip limit based upon the percentage of TAC which is projected to be harvested.

Section 648.86 (a)(1)(iii)(B) specifies that if the Regional Administrator has projected that less than 75 percent (4,689 mt) of the haddock target TAC will be harvested in the fishing year, the landing limit may be adjusted. Further, this section stipulates that NMFS will publish a notification in the Federal Register informing the public of the date of any changes to the landing limit. Based on the available information, the Regional Administrator has projected that 4,689 mt will not be harvested by April 30, 2002, under the existing landing limit. The Regional Administrator has determined that removal of the daily landing limit of 5,000 lb (2,268 kg) per DAS through February 28, 2002, while retaining the 50,000 lb (22,680 kg) per trip possession limit, provides the industry with the opportunity to harvest at least 75 percent of the target TAC for the 2001 fishing year. However, because of difficulties inherent in collecting real-time haddock landings information, the Regional Administrator has determined that the daily trip limit will be reimposed on March 1, 2002, unless she can project that the haddock target TAC for fishing year 2001 will be harvested but not exceeded before the end of the fishing year. Therefore, pursuant to § 648.86(a)(1)(iii)(B), the haddock daily landing limit is suspended, while the 50,000 lb (22,680 kg) per trip maximum possession limit is retained, from November 6, 2001, until February 28, 2001. The Regional Administrator may adjust this possession limit again through publication of a notification in the Federal Register, pursuant to § 648.86(a)(1)(iii).

Classification

This action is required by 50 CFR part 648 and is exempt from review under Executive Order 12866.

This action responds to the best available information recently obtained from the fishery. The Assistant Administrator for Fisheries, NOAA, finds that the need to immediately implement this action to remove the haddock daily trip limit in order to provide industry with the opportunity to harvest at least 75 percent of the target TAC for the 2001 fishing year constitutes good cause to waive the requirement to provide prior notice or opportunity for public comment pursuant to the authority set forth at 5 U.S.C. 553 (b)(B), as such procedures would be unnecessary and contrary to the public interest. Similarly, the need to implement the measure that relieves a restriction (removal of the trip limit) in a timely fashion to allow for the additional harvest of haddock constitutes good cause to find that the effective date of this action cannot be delayed for 30 days. Accordingly, under 5 U.S.C. 553 (d)(1), a delay in the effective date is hereby waived.

Authority: 16 U.S.C. 1801 et seq.

Dated: October 31, 2001.
Bruce Morehead,
Acting Director, Office of Sustainable Fisheries, National Marine Fisheries Service.

[FR Doc. 01-27823 Filed 11-1-01; 3:13 pm]

BILLING CODE 3510-22-S